DEPARTMENT OF THE INTERIOR

Bureau of Indian Affairs

Renewal of Agency Information Collection for Navajo Partitioned Lands Grazing Regulations Permits

AGENCY: Bureau of Indian Affairs, Interior.

ACTION: Notice of request for comments.

SUMMARY: The Bureau of Indian Affairs (BIA) is proposing to submit the information collection, titled “Navajo Partitioned Lands Grazing Regulations Permits, 25 CFR 161” to the Office of Management and Budget for renewal. The information collection is currently authorized by OMB Control Number 1076-0162, which expires March 31, 2010. The information collection requires the Navajo Nation, members of the Navajo Nation, and tribal organizations authorized by the Navajo Nation to submit certain information in order to obtain, modify, or assign a grazing permit.

DATES: Interested persons are invited to submit comments on or before March 29, 2010.

ADDRESSES: You may submit comments on the information collection to David Edington, Office of Trust Services, Bureau of Indian Affairs, Department of the Interior, 1849 C Street, NW., Mail Stop 4655, Washington, DC 20240, facsimile: (202) 219-0006, or e-mail David.Edington@bia.gov.

FOR FURTHER INFORMATION CONTACT: You may request further information or obtain copies of the information collection request submission from David Edington, telephone: (202) 513-0886.

SUPPLEMENTARY INFORMATION:

I. Abstract

The BIA is seeking renewal of the approval for the information collection conducted under 25 CFR 161, implementing the Navajo-Hopi Settlement Act of 1974, 24 U.S.C. 640d-6402-31, as amended by the Navajo-Hopi Indian Relocation Amendments Acts of 1980, 94 Stat. 929, and the Federal court decisions of Healing v. Jones, 174 F. Supp. 211 (D. Ariz. 1959) (Healing I), Healing v. Jones, 210 F. Supp. 126 (D. Ariz. 1962), aff'd 363 U.S. 758 (1963) (Healing II), Hopi Tribe v. Watt, 530 F. Supp. 1217 (D. Ariz. 1982), and Hopi Tribe v. Watt, 719 F.2d 314 (9th Cir. 1983).

Approval for this collection expires March 31, 2010. This information collection allows BIA to receive the information necessary to determine whether an applicant to obtain, modify, or assign a grazing permit on Navajo partitioned lands is eligible and complies with all applicable grazing requirements. No third party notification or public disclosure burden is associated with this collection. There is no change to the approved burden hours for this information collection.

II. Request for Comments

The BIA requests that you send your comments on this collection to the locations listed in the ADDRESSES section. Your comments should address: (a) The necessity of the information collection for the proper performance of the agencies, including whether the information will have practical utility; (b) the accuracy of the agencies' estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. Approval for this collection expires March 31, 2010.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0162.

Title: Navajo Partitioned Lands Grazing Regulations Permits, 25 CFR 161.

Brief Description of Collection: Submission of this information is required for Navajo Nation representatives, members, and authorized tribal organizations to obtain, modify or assign a grazing permit on Navajo partitioned lands. Response is required to obtain a benefit.

Type of Review: Extension without change of a currently approved collection.

Respondents: Tribes, tribal organizations, and individual Indians.

Number of Respondents: 700.

Total Number of Responses: 3,200.

Estimated Time per Response: Varies, from 0.25 hour to 1 hour.

Estimated Total Annual Burden: 1,227 hours.

Dated: January 21, 2010.
Alvin Foster,
Chief Information Officer—Indian Affairs.

[FR Doc. 2010-1640 Filed 1-26-10; 8:45 am]

BILLING CODE 4310-4J-P